ENVIRONMENTAL PROTECTION AGENCY

[FRL-7499-7; Docket ID Numbers: OECA-2003-0019 to OECA-2003-0038]

Agency Information Collection Activities: Request for Comments on Twenty Proposed Information Collection Requests (ICRs)

AGENCY: Environmental Protection Agency (EPA).

ACTION: Notice.

SUMMARY: In compliance with the Paperwork Reduction Act (44 U.S.C. 3501 et seq.), this document announces that EPA is planning to submit the following twenty continuing Information Collection Requests (ICRs) to the Office of Management and Budget (OMB). Before submitting the ICRs to OMB for review and approval, EPA is soliciting comments on specific aspects of the information collections as described at the beginning of SUPPLEMENTARY INFORMATION.

DATES: Comments must be submitted on or before July 18, 2003.

ADDRESSES: Comments may be submitted electronically, by mail, or through hand delivery/courier service. Follow the detailed instructions as provided under SUPPLEMENTARY INFORMATION, section I.B.

FOR FURTHER INFORMATION CONTACT: The contact individuals for each ICR are listed under SUPPLEMENTARY INFORMATION, section II. C.

SUPPLEMENTARY INFORMATION:

I. General Information

A. How Can I Get Copies of the ICR Supporting Statement and Other Related Information?

1. Docket. EPA has established official public dockets for the following ICRs:

(1) NESHAP for Secondary Lead Smelting (40 CFR part 63, subpart X), Docket ID Number OECA-2003-0036.

(2) NESHAP for Halogenated Solvent Cleaning (40 CFR part 63, subpart T), Docket ID Number OECA-2003-0024.

(3) NSPS for Storage Vessels for Petroleum Liquids for Which Construction, Reconstruction or Modification Commenced After June 11, 1973, and prior to May 19, 1978 (40 CFR part 60, subpart K), Docket ID Number OECA-2003-0019.

(4) NSPS for New Commercial and Industrial Solid Waste Incineration Units (40 CFR part 60, subpart CCCC), Docket ID Number OECA-2003-0025.

(5) NSPS for Ammonium Sulfate Manufacture (40 CFR part 60, subpart PP), Docket ID Number OECA-2003-0026.

(6) NESHAP for Phosphoric Acid Manufacturing Plants and Phosphate Fertilizers Production Plants (40 CFR part 63, subparts AA and BB), Docket ID Number OECA-2003-0027.

(7) Emission Guidelines for Commercial and Industrial Solid Waste Incineration Units (40 CFR part 60, subpart DDDD), Docket ID Number OECA-2003-0028.

(8) NESHAP for Magnetic Tape Manufacturing Operations (40 CFR part 63, subpart EE), Docket ID Number OECA-2003-0022.

(9) NESHAP for Flexible Polyurethane Foam Production (40 CFR part 63, subpart III), Docket ID Number OECA-2003-0037.

(10) NESHAP for Mineral Wool Production (40 CFR part 63, Subpart DDD), Docket ID Number OECA-2003-0029.

(11) NSPS for Nitric Acid Plants (40 CFR part 60, subpart G), Docket ID Number OECA-2003-0030.

(12) NESHAP for Off-Site Waste and Recovery Operations (40 CFR part 63, subpart DD), Docket ID Number OECA-2003-0031.

(13) NSPS for New Residential Wood Heaters (40 CFR part 60, subpart AAA), Docket ID Number OECA-2003-0021.

(14) NESHAP for Wood Furniture Manufacturing Operations (40 CFR part 63, subpart JJ), Docket ID Number OECA-2003-0032.

(15) NESHAP for Ethylene Oxide Emissions from Sterilization Facilities (40 CFR part 63, subpart O), Docket ID Number OECA-2003-0033.

(16) NSPS for Chromium Emissions From Hard and Decorative Chromium Electroplating and Chromium Anodizing Tanks (40 CFR part 63, subpart N), Docket ID Number OECA-2003-0034.

(17) NSPS for Secondary Brass and Bronze Production (40 CFR part 60, subpart M); Primary Copper Smelters (40 CFR part 60, subpart P); Primary Zinc Smelters (40 CFR part 60, subpart Q); Primary Lead Smelters (40 CFR part 60, subpart R); Primary Aluminum Reduction Plants (40 CFR part 60, subpart S); and Ferroalloy Production Facilities (40 CFR part 60, subpart Z), Docket ID Number OECA-2003-0038.

(18) NESHAP for Gasoline Distribution Facilities (40 CFR part 63, subpart R), Docket ID Number OECA-2003-0020.

(19) NESHAP for Pharmaceutical Production (40 CFR part 63, subpart GGG), Docket ID Number OECA-2003-0035.

(20) NSPS for Magnetic Tape Facilities (40 CFR part 60, subpart SSS), Docket ID Number OECA-2003-0023.

The official public docket for each ICR consists of the documents specifically referenced in the ICR, any public comments received, and other information related to each ICR. Although a part of the official docket, the public docket does not include Confidential Business Information (CBI) or other information whose disclosure is restricted by statute. The official public docket for each ICR is the collection of materials that is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 566-1514.

2. Electronic Access. You may access this document electronically through the EPA Internet under the “Federal Register” listings at http://www.epa.gov/fedrgstr/. You may use EPA Dockets at http://www.epa.gov/edocket/. to submit or view public comments, access the index listing of the contents of the official public docket, and to access those documents in the public docket that are available electronically. After entering the system, select “search,” then key in the docket identification number.

Certain types of information will not be placed in the EPA Dockets. Information claimed as CBI, and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in section I.A.1. EPA intends to work toward providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket, visit EPA Dockets online or see 67 FR 38102, May 31, 2002.

B. How and To Whom Do I Submit Comments?

You may submit comments electronically, by mail, or through hand delivery/courier service. To ensure proper receipt by EPA, identify the appropriate docket identification number in the subject line on the first page of your comment. Please ensure that your comments are submitted within the specified comment period. Comments received after the close of the comment period will be marked “late.” EPA is not required to consider late comments in formulating a final decision. If you wish to submit CBI or information that is otherwise protected by statute, please follow the instructions in section I.C. Do not use EPA Dockets or e-mail to submit CBI or information protected by statute.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” After entering the system, select “search,” and then key in Docket ID Number. The system is an “anonymous access” system, which means EPA will not know your identity, e-mail address, or other contact information unless you provide it in the body of your comment.

ii. E-mail. Comments may be sent by electronic mail (e-mail) to docket.oeca@epa.gov. Provide the Docket ID Number when submitting your comments. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in section I.A.1. These electronic submissions will be accepted in WordPerfect or ASCII file format. Avoid the use of special characters and any form of encryption.

2. By Mail. Send your comments to the EPA Docket Center using the address provided in section I.A.1.; Attention: Docket ID Number (provide number).

3. By Hand Delivery or Courier Service. Deliver your comments to address provided in section I.A.1; Attention: Docket ID Number (provide number). Such deliveries are only accepted during the Docket's normal hours of operation as identified in section I.A.1.

C. How Should I Submit CBI to the Agency?

Do not submit information that you consider to be CBI electronically through EPA's electronic public docket or by e-mail. Send or deliver information identified as CBI only to the contact individuals listed in section II.C.; Attention: Docket ID Number (provide number). You may claim information that you submit to EPA as CBI by marking any part or all of that information as CBI. If you submit CBI on disk or CD ROM, mark the outside of the disk or CD ROM as CBI, and then identify within the disk or CD ROM the specific information that is CBI. Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified under the section titled FOR FURTHER INFORMATION CONTACT.

D. What Should I Consider as I Prepare My Comments for EPA?

You may find the following suggestions helpful for preparing your comments:

(1) Explain your views as clearly as possible.

(2) Describe any assumptions that you used.

(3) Provide any technical information and/or data you used that support your views.

(4) If you estimate potential burden or costs, explain how you arrived at your estimate.

(5) Provide specific examples to illustrate your concerns.

(6) Offer alternatives.

(7) Make sure to submit your comments by the comment period deadline identified.

(8) To ensure proper receipt by EPA, identify the appropriate docket identification number in the subject line on the first page of your response. It would also be helpful if you provided the name, date, and Federal Register citation related to your comments.

E. In What Information Is EPA Particularly Interested?

Pursuant to section 3506(c)(2)(A) of the PRA, EPA specifically solicits comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

II. ICRs To Be Renewed

A. For All ICRs

An Agency may not conduct or sponsor, and a person is not required to respond to, a collection information unless it displays a currently valid OMB control number. The OMB control numbers for EPA's regulations are displayed in 40 CFR part 9.

These information collection requirements are mandatory. Furthermore, the records required by New Source Performance Standards (NSPS) must be retained by the owner or operator for at least two years and records required by the National Emission Standards for Hazardous Air Pollutants (NESHAP) must be retained by the owner or operator for at least five years. In general, the required information consists of emissions data and other information deemed not to be private.

In the absence of such information collection requirements, enforcement personnel would be unable to determine whether the standards are being met on a continuous basis, as required by the Clean Air Act.

The EPA computed the burden for each of the recordkeeping and reporting requirements applicable to the industry for the currently approved Information Collection Requests (ICRs) listed in this notice. Where applicable, the EPA identified specific tasks and made assumptions, while being consistent with the concept of the Paperwork Reduction Act.

B. List of ICRs Planned To Be Submitted

In compliance with the Paperwork Reduction Act (44 U.S.C. 3501 et seq.), this notice announces that EPA is planning to submit the following twenty continuing Information Collection Requests (ICRs) to the Office of Management and Budget (OMB):

(1) NESHAP for Secondary Lead Smelting (40 CFR part 63, subpart X); Docket ID Number OECA-2003-0036; EPA ICR Number 1686.05; OMB Control Number 2060-0296; expiration date October 31, 2003.

(2) NESHAP for Halogenated Solvent Cleaning (40 CFR part 63, subpart T); Docket ID Number OECA-2003-0024; EPA ICR Number 1652.05; OMB Control Number 2060-0273; expiration date October 31, 2003.

(3) NSPS for Storage Vessels for Petroleum Liquids for Which Construction, Reconstruction or Modification Commenced After June 11, 1973, and prior to May 19, 1978 (40 CFR part 60, subpart K); Docket ID Number OECA-2003-0019; EPA ICR Number 1797.03; OMB Control Number 2060-0442; expiration date January 31, 2004.

(4) NSPS for Commercial and Industrial Solid Waste Incineration Units (40 CFR part 60, subpart CCCC); Docket ID Number OECA-2003-0025; EPA ICR Number 1926.03; OMB Control Number 2060-0450; expiration date January 31, 2004.

(5) NSPS for Ammonium Sulfate Manufacture (40 CFR part 60, subpart PP); Docket ID Number OECA-2003-0026; EPA ICR Number 1066.04; OMB Control Number 2060-0032; expiration date January 31, 2004.

(6) NESHAP for Phosphoric Acid Manufacturing Plants and Phosphate Fertilizers Production Plants (40 CFR part 63, subparts AA and BB); Docket ID Number OECA-2003-0027; EPA ICR Number 1790.03; OMB Control Number 2060-0361; expiration date January 31, 2004.

(7) Emission Guidelines for Commercial and Industrial Solid Waste Incineration Units (40 CFR part 60, subpart DDDD); Docket ID Number OECA-2003-0028; EPA ICR Number 1927.03; OMB Control Number 2060-0451; expiration date January 31, 2004.

(8) NESHAP for Magnetic Tape Manufacturing Operations (40 CFR part 63, subpart EE); Docket ID Number OECA-2003-0022; EPA ICR Number 1678.05; OMB Control Number 2060-0326; expiration date January 31, 2004.

(9) NESHAP for Flexible Polyurethane Foam Production (40 CFR part 63, subpart III); Docket ID Number OECA-2003-0037; EPA ICR Number 1783.03; OMB Control Number 2060-0357; expiration date January 31, 2004.

(10) NESHAP for Mineral Wool Production (40 CFR part 63, subpart DDD); Docket ID Number OECA-2003-0029; EPA ICR Number 1799.03; OMB Control Number 2060-0362; expiration date January 31, 2004.

(11) NSPS for Nitric Acid Plants (40 CFR part 60, subpart G); Docket ID Number OECA-2003-0030; EPA ICR Number 1056.08; OMB Control Number 2060-0019; expiration date January 31, 2004.

(12) NESHAP for Off-Site Waste and Recovery Operations (40 CFR part 63, subpart DD); Docket ID Number OECA-2003-0031; EPA ICR Number 1717.04; OMB Control Number 2060-0313; expiration date January 31, 2004.

(13) NSPS for New Residential Wood Heaters (40 CFR part 60, subpart AAA); Docket ID Number OECA-2003-0021; EPA ICR Number 1706.07; OMB Control Number 2060-0161; expiration date February 29, 2004.

(14) NESHAP for Wood Furniture Manufacturing Operations (40 CFR part 63, subpart JJ); Docket ID Number OECA-2003-0032; EPA ICR Number 1716.04; OMB Control Number 2060-0324; expiration date February 29, 2004.

(15) NESHAP for Ethylene Oxide Emissions from Sterilization Facilities (40 CFR part 63, subpart O); Docket ID Number OECA-2003-0033; EPA ICR Number 1666.06; OMB Control Number 2060-0283; expiration date February 29, 2004.

(16) NESHAP for Chromium Emissions From Hard and Decorative Chromium Electroplating and Chromium Anodizing Tanks (40 CFR part 63, subpart N); Docket ID Number OECA-2003-0034; EPA ICR Number 1611.05; OMB Control Number 2060-0327; expiration date February 29, 2004.

(17) NSPS for Secondary Brass and Bronze Production Plants (40 CFR part 60, subpart M); Primary Copper Smelters (40 CFR part 60, subpart P); Primary Zinc Smelters (40 CFR part 60, subpart Q); Primary Lead Smelters (40 CFR part 60, subpart R); Primary Aluminum Reduction Plants (40 CFR part 60, subpart S); and Ferroalloy Production Facilities (40 CFR part 60, subpart Z); Docket ID Number OECA-2003-0038; EPA ICR Number 1604.07; OMB Control Number 2060-0110; expiration date February 29, 2004.

(18) NESHAP for Gasoline Distribution Facilities (40 CFR part 63, subpart R); Docket ID Number OECA-2003-0020; EPA ICR Number 1659.05; OMB Control Number 2060-0325; expiration date February 29, 2004.

(19) NESHAP for Pharmaceutical Production (40 CFR part 63, subpart GGG); Docket ID Number OECA-2003-0035; EPA ICR Number 1781.03; OMB Control Number 2060-0358; expiration date February 29, 2004.

(20) NSPS for Magnetic Tape Coating Facilities (40 CFR part 60, subpart SSS); Docket ID Number OECA-2003-0023; EPA ICR Number 1135.08; OMB Control Number 2060-0171; expiration date February 29, 2004.

C. Contact Individuals for ICRs

(1) NESHAP for Secondary Lead Smelting (40 CFR part 63, subpart X); contact María Malavé of the Office of Compliance at (202) 564-7027 or via E-mail at malave.maria@epa.gov; EPA ICR Number 1686.05; OMB Control Number 2060-0296; expiration date October 31, 2003.

(2) NESHAP for Halogenated Solvent Cleaning (40 CFR part 63, subpart T); Learia Williams of the Office of Compliance at (202) 564-4113 or via E-mail at williams.learia@epa.gov; EPA ICR Number 1652.05; OMB Control Number 2060-0273; expiration date October 31, 2003.

(3) NSPS for Storage Vessels for Petroleum Liquids for Which Construction, Reconstruction or Modification Commenced After June 11, 1973, and prior to May 19, 1978 (40 CFR part 60, subpart K); Rafael Sanchez of the Office of Compliance at (202) 564-7028 or via E-mail at Sanchez.Rafael@epa.gov; EPA ICR Number 1797.03; OMB Control Number 2060-0442; expiration date January 31, 2004.

(4) NSPS for Commercial and Industrial Solid Waste Incineration Units (40 CFR part 60, subpart CCCC); Learia Williams of the Office of Compliance at (202)564-4113 or via E-mail at williams.learia@epa.gov; EPA ICR Number 1926.03; OMB Control Number 2060-0450; expiration date January 31, 2004.

(5) NSPS for Ammonium Sulfate Manufacture (40 CFR part 60, subpart PP); Learia Williams of the Office of Compliance at (202) 564-4113 or via E-mail at williams.learia@epa.gov; EPA ICR Number 1066.04; OMB Control Number 2060-0032; expiration date January 31, 2004.

(6) NESHAP for Phosphoric Acid Manufacturing Plants and Phosphate Fertilizers Production Plants (40 CFR part 63, subparts AA and BB); Learia Williams of the Office of Compliance at (202) 564-4113 or via E-mail at williams.learia@epa.gov; EPA ICR Number 1790.03; OMB Control Number 2060-0361; expiration date January 31, 2004.

(7) Emission Guidelines for Commercial and Industrial Solid Waste Incineration Units (40 CFR part 60, subpart DDDD); Learia Williams of the Office of Compliance at (202) 564-4113 or via E-mail at williams.learia@epa.gov; EPA ICR Number 1927.03; OMB Control Number 2060-0451; expiration date January 31, 2004.

(8) NESHAP for Magnetic Tape Manufacturing Operations (40 CFR part 63, subpart EE); Leonard Lazarus of the Office of Compliance at (202) 564-6369 or via E-mail at lazarus.leonard@epa.gov; EPA ICR Number 1678.05; OMB Control Number 2060-0326; expiration date January 31, 2004.

(9) NESHAP for Flexible Polyurethane Foam Production (40 CFR part 63, subpart III); contact María Malavé of the Office of Compliance at (202) 564-7027 or via E-mail at malave.maria@epa.gov; EPA ICR Number 1783.03; OMB Control Number 2060-0357; expiration date January 31, 2004.

(10) NESHAP for Mineral Wool Production (40 CFR part 63, subpart DDD); Learia Williams of the Office of Compliance at (202) 564-4113 or via E-mail at williams.learia@epa.gov; EPA ICR Number 1799.03; OMB Control Number 2060-0362; expiration date January 31, 2004.

(11) NSPS for Nitric Acid Plants (40 CFR part 60, subpart G); Learia Williams of the Office of Compliance at (202) 564-4113 or via E-mail at williams.learia@epa.gov; EPA ICR Number 1056.08; OMB Control Number 2060-0019; expiration date January 31, 2004.

(12) NESHAP for Off-Site Waste and Recovery Operations (40 CFR part 63, subpart DD); Learia Williams of the Office of Compliance at (202) 564-4113 or via E-mail at williams.learia@epa.gov; EPA ICR Number 1717.04; OMB Control Number 2060-0313; expiration date January 31, 2004.

(13) NSPS for New Residential Wood Heaters (40 CFR part 60, subpart AAA); John DuPree of the Office of Compliance at (202) 564-5950 or via E-mail at dupree.john@epa.gov; EPA ICR Number 1706.07; OMB Control Number 2060-0161; expiration date February 29, 2004.

(14) NESHAP for Wood Furniture Manufacturing Operations (40 CFR part 63, subpart JJ); Learia Williams of the Office of Compliance at (202) 564-4113 or via E-mail at williams.learia@epa.gov; EPA ICR Number 1716.04; OMB Control Number 2060-0324; expiration date February 29, 2004.

(15) NESHAP for Ethylene Oxide Emissions from Sterilization Facilities (40 CFR part 63, subpart O); Learia Williams of the Office of Compliance at (202) 564-4113 or via E-mail at williams.learia@epa.gov; EPA ICR Number 1666.06; OMB Control Number 2060-0283; expiration date February 29, 2004.

(16) NESHAP for Chromium Emissions From Hard and Decorative Chromium Electroplating and Chromium Anodizing Tanks (40 CFR part 63, subpart N); Learia Williams of the Office of Compliance at (202) 564-4113 or via E-mail at williams.learia@epa.gov; EPA ICR Number 1611.05; OMB Control Number 2060-0327; expiration date February 29, 2004.

(17) NSPS for Secondary Brass and Bronze Production Plants (40 CFR part 60, subpart M); Primary Copper Smelters(40 CFR part 60, subpart P); Primary Zinc Smelters (40 CFR part 60, subpart Q); Primary Lead Smelters (40 CFR part 60, subpart R); Primary Aluminum Reduction Plants (40 CFR part 60, subpart S); and Ferroalloy Production Facilities (40 CFR part 60, subpart Z); contact María Malavé of the Office of Compliance at (202) 564-7027 or via E-mail at malave.maria@epa.gov; EPA ICR Number 1604.07; OMB Control Number 2060-0110; expiration date February 29, 2004.

(18) NESHAP for Gasoline Distribution Facilities (40 CFR part 63, subpart R); Rafael Sanchez of the Office of Compliance at (202) 564-7028 or via E-mail at Sanchez.Rafael@epa.gov; EPA ICR Number 1659.05; OMB Control Number 2060-0325; expiration date February 29, 2004.

(19) NESHAP for Pharmaceutical Production (40 CFR part 63, subpart GGG); Learia Williams of the Office of Compliance at (202) 564-4113 or via E-mail at williams.learia@epa.gov; EPA ICR Number 1781.03; OMB Control Number 2060-0358; expiration date February 29, 2004.

(20) NSPS for Magnetic Tape Coating Facilities (40 CFR part 60, subpart SSS); Leonard Lazarus of the Office of Compliance at (202) 564-6369 or via E-mail at lazarus.leonard@epa.gov; EPA ICR Number 1135.08; OMB Control Number 2060-0171; expiration date February 29, 2004.

D. Information for Individual ICRs

(1) NESHAP for Secondary Lead Smelting (40 CFR part 63, subpart X); EPA ICR Number 1686.05; OMB Control Number 2060-0296; expiration date October 31, 2003.

Affected Entities: Entities potentially affected by this action are owners or operators of secondary lead smelters that operate blast, reverberatory, rotary, or electric smelting furnaces to recover lead metal from scrap lead, primarily from used lead-acid automotive-type batteries.

Abstract: The standards at 40 CFR part 63, subpart X, were promulgated on June 23, 1995. In response to industry petitions to reconsider, final standards were amended on June 13, 1997. These standards require sources to submit initial notifications, conduct performance tests, and submit periodic reports. In addition, sources are required to maintain records of the occurrence and duration of any startup, shutdown, or malfunction in the operation of an affected facility; any period during which the monitoring system is inoperative; bag leak detection system alarms, including corrective actions; and of parametric monitoring data, system maintenance and calibration. Records are to be retained two years on-site of the required total five years. These notifications, reports, and records are essential in determining compliance with the standards.

Burden Statement: In the previously approved ICR, the estimated number of respondents for this information collection was 23 with no new sources expected over the three-year period. However, it was expected that one furnace would be rebuilt per year and that each facility will make a major adjustment one time per year which will require revising its operational plan. The annual industry reporting and recordkeeping burden was estimated to be 16,033 hours with a total of 48 responses per year. Therefore, each respondent reported an average of two times per year and spent about 334 hours preparing each response (includes time for recordkeeping activities). There were no capital/startup costs associated with continuous emission monitoring (CEM) in the previously approved ICR. The operation and maintenance costs associated with CEM were estimated at $150,000.

(2) NESHAP for Halogenated Solvent Cleaning (40 CFR part 63, subpart T); EPA ICR Number 1652.05; OMB Control Number 2060-0273; expiration date October 31, 2003.

Affected Entities: Entities potentially affected by this action are batch vapor, in-line vapor, in-line cold, and batch cold solvent cleaning machines, batch vapor or in-line cleaning machines.

Abstract: The NESHAP for Halogenated Solvent Cleaning (40 CFR part 63, subpart T) was promulgated on December 2, 1994, and a correction to the final standards published June 5, 1995.

The monitoring, recordkeeping, and reporting requirements outlined in the standards are similar to those required for other NESHAP regulations. Plants must demonstrate compliance with the emission standards by monitoring their control devices and performing annual emissions testing. This information notifies EPA when a source becomes subject to the regulations, informs the EPA if a source is in compliance when it begins operation, and informs EPA if the source remained in compliance during any period of operation.

These standards rely on the proper design and operation of halogenated solvent cleaners such as working-mode covers, freeboard ratio of 1.0, and reduced room draft to reduce solvent emissions from halogenated solvent cleaners. Certain records and reports are necessary to enable the EPA to identify sources subject to the standards and to ensure that the standards are being achieved. Sources subject to these standards must provide EPA with an initial notification of existing or new solvent cleaning machines, initial statements of compliance, an annual control device monitoring report for batch vapor and in-line cleaning machines, an annual solvent emission report for batch vapor and in-line cleaning machines complying with the alternative standard, and exceedance of monitoring parameters or emissions. These records that the facilities maintain indicate to EPA whether they are operating and maintaining the halogenated solvent cleaners properly to control emissions. In order to ensure compliance with the standards, adequate reporting and recordkeeping is necessary. All sources subject to these standards are required to submit quarterly, semiannual, and annual reports.

Burden Statement: In the previously approved ICR, the estimated number of respondents for this information collection was 1,431 with 3,943 responses per year. The annual industry reporting and recordkeeping burden for this collection of information was 45,207 hours. The annual public reporting and recordkeeping burden for this collection of information is estimated to average 11 hours per response.

The total annualized reporting and recordkeeping cost burden is approximately $4,091,000 of which the capital startup costs are $3,079,000 and the operation and maintenance costs are $1,012,000.

(3) NSPS for Storage Vessels for Petroleum Liquids for Which Construction, Reconstruction or Modification Commenced After June 11, 1973, and prior to May 19, 1978 (40 CFR part 60, subpart K); EPA ICR Number 1797.03; OMB Control Number 2060-0442; expiration date January 31, 2004.

Affected Entities: Entities potentially affected by this action are: (1) Those facilities that operate a storage vessel with petroleum liquids which has a storage capacity greater than 151,416 liters (40,000 gallons) and for which construction commenced after June 11, 1973, and prior to May 19, 1978; (2) those facilities that operate a storage vessel greater than 151,416 liters (40,000 gallons), but not exceeding 246,052 liters (65,000 gallons) that commenced construction or modification after March 8, 1974, and prior to May 19, 1978; and (3) those facilities that operate a storage vessel that has a capacity greater than 246,052 liters (65,000 gallons) that commenced construction or modification after June 11, 1973, and prior to May 19, 1978.

Abstract: The applicable standards, 40 CFR part 60, subpart K, were promulgated on March 8, 1974. These are new source performance standards that require initial notification, performance tests, and periodic reports. In addition, owners or operators are also required to maintain records of the occurrence and duration of any startup, shutdown, or malfunction in the operation of an affected facility, or any period during which the monitoring system is inoperative. Monitoring requirements specific to these standards include collecting and maintaining a record of the petroleum liquid stored, the period of storage and the maximum true vapor pressure of that liquid during the respective storage period. This information is collected when the petroleum liquid within the storage vessel changes. Performance test reports, and excess emissions reports serve as a record of the conditions under which compliance was achieved. The semiannual reports are used for problem identification, as a check on source operation and maintenance, and for compliance determinations.

Burden Statement: In the previously approved ICR, the estimated number of respondents for this information collection was 220 with 4 responses per year. The annual industry reporting and recordkeeping burden for this collection of information was 678 hours. On the average, each respondent reported 0.02 times per year and 170 hours were spent preparing each response. The response was prepared on occasion. There were no capital/startup costs or operation and maintenance costs associated with continuous emission monitoring in the previous ICR. It is assumed that 2 percent of the approximately 220 respondents per year that are subject to these standards will modify or reconstruct their tanks to such a degree that they must submit a report.

(4) NSPS for Commercial and Industrial Solid Waste Incineration Units (40 CFR part 60, subpart CCCC); EPA ICR Number 1926.03; OMB Control Number 2060-0450; expiration date January 31, 2004.

Affected Entities: Entities potentially affected by this action are commercial and industrial solid waste incineration (CISWI) units.

Abstract: The NSPS for Commercial and Industrial Solid Waste Incineration Units (40 CFR part 60, subpart CCCC) was promulgated on March 27, 2001.

The standards require initial performance tests for 10 pollutants, annual performance testing for particulate matter (PM), hydrogen chloride (HCl), opacity continuous operating parameter monitoring, annual operator training and annual reporting. (Deviation reports are required if any of the emission limitations or operating limits are exceeded).

To minimize the burden of the annual performance testing, the standards only require that the owner or operator test for PM, HCl, and opacity. Annual performance testing is not required for dioxins/furans, cadmium, carbon monoxide, lead, mercury, nitrogen oxides, and sulfur dioxide. This significantly reduces the testing costs while still providing the EPA with sufficient data to adequately assess compliance. In addition, the standards allow the owner or operator to skip two annual tests for a pollutant if all performance tests over the previous three years show compliance with the emission limit. Reports must be submitted semiannually and annually.

Burden Statement: In the previously approved ICR, the estimated number of respondents for this information collection was 1 with 18 responses per year. The annual industry reporting and recordkeeping burden for this collection of information was 11,209 hours. The annual public reporting and recordkeeping burden for this collection of information is estimated to average 623 hours per response.

The annual capital/startup costs per year were approximately $14,000 and there were no annualized operation and maintenance costs.

(5) NSPS for Ammonium Sulfate Manufacture (40 CFR part 60, subpart PP); EPA ICR Number 1066.04; OMB Control Number 2060-0032; expiration date January 31, 2004.

Affected Entities: Entities potentially affected by this action applies to ammonium sulfate dryer within an ammonium sulfate manufacturing plant in the caprolactam, synthetic and coke oven by-products sectors of the ammonium sulfate manufacturing industry.

Abstract: NSPS for Ammonium Sulfate Manufacture (40 CFR part 60, subpart PP), was promulgated on November 12, 1980. All affected facilities in this subpart must make the following one-time-only reports: Notification of the date of construction or reconstruction; notification of the anticipated and actual dates of startup; notification of any physical or operational change to an existing facility which may increase the regulated pollutant emission rate; and the notification of the date of the initial performance test.

The recordkeeping requirements for ammonium sulfate plants consist of the occurrence and duration of all startups and malfunctions, the initial performance tests results, amount of ammonium sulfate feed material, and the pressure drop across the emission control system. Records of startups, shutdowns and malfunctions shall be noted as they occur. Records of the performance test should include information necessary to determine the conditions of the performance test, and performance test measurements (including pressure drop across the emission control system) and results. The continuous emission monitors (CEMS) shall record pressure drop across the scrubbers continuously and automatically. The reporting requirements for this industry include initial notifications, and initial performance tests.

Burden Statement: In the previously approved ICR, the estimated number of respondents for this information collection was 2 with 2 responses per year. The annual industry reporting and recordkeeping burden for this collection of information was 182 hours. On the average, each respondent reported one time per year and 91 hours were spent preparing each response. There were no capital/startup costs or operation and maintenance costs associated with the previous ICR.

(6) NESHAP for Phosphoric Acid Manufacturing Plants and Phosphate Fertilizers Production Plants (40 CFR part 63, subparts AA and BB); EPA ICR Number 1790.03; OMB Control Number 2060-0361; expiration date January 31, 2004.

Affected Entities: Entities potentially affected by this action are phosphoric acid manufacturing and phosphate fertilizer production plants.

Abstract: The NESHAP for Phosphoric Acid Manufacturing Plants and Phosphate Fertilizers Production Plants (40 CFR part 63, subparts AA and BB) was promulgated on December 29, 1992, and amended on December 17, 2001.

All affected facilities must submit one-time notifications (where applicable) and a one-time report on performance test results. Plants must develop and implement a startup, shutdown, and malfunction plan and submit semiannual reports of any event where the plan was not followed.

Semiannual reports for periods of operation during which the monitoring parameter boundaries established during the initial compliance test are exceeded (or reports certifying that no exceedances have occurred) also are required. General requirements applicable to all NESHAP require records of applicability determinations; test results; exceedances; periods of startups; shutdowns; or malfunctions; monitoring records; and all other information needed to determine compliance with the applicable standards. Records and reports must be retained for a total of 5 years (2 years at the site; the remaining 3 years of records may be retained off-site).

Subparts AA and BB require respondents to install monitoring devices to measure the pressure drop and liquid flow rate for wet scrubbers. These operating parameters are permitted to vary within ranges determined concurrently with performance tests. Exceedances of the operating ranges are considered violations of the emission limits. The requirements include an option which allows sources to retest and demonstrate that the operating parameter exceedances are not exceedances of the emissions limit.

The standards require sources to determine and record the amount of phosphatic feed material processed or stored on a daily basis. This requirement allows verification of plant operating rate which is one of the factors considered in establishing the operating ranges of control devices. This requirement poses no additional burden upon the industry. This is so because proper plant operation and industry practice include daily recording of phosphate-bearing feed processed. Because the daily recordkeeping requirement places no additional burden upon sources, no cost estimate has been made for this requirement. Respondents also maintain records of specific information needed to determine that the standards are being achieved and maintained.

Since many of the facilities potentially affected by the standards are currently subject to a similar new source performance standard (NSPS), these standards include an exemption from the NSPS for those sources. That exemption eliminates duplication of information collection requirements.

Burden Statement: In the previously approved ICR, the estimated number of respondents was 15 with 193 responses per year. The annual industry reporting and recordkeeping burden for this collection of information was 4,143 hours. The annual public reporting and recordkeeping burden for this collection of information is estimated to average 21 hours per response.

The annual reporting and recordkeeping cost burden was $66,000 of which the capital/startup costs were $53,000 and the operation and maintenance costs were $13,000.

(7) Emission Guidelines for Commercial and Industrial Solid Waste Incineration Units (40 CFR part 60, subpart DDDD); EPA ICR Number 1927.03; OMB Control Number 2060-0451; expiration date January 31, 2004.

Affected Entities: Entities potentially affected by this action applies to commercial and industrial solid waste incineration units that commenced construction on or before November 30, 1999.

Abstract: Emission Guidelines for Commercial and Industrial Solid Waste Incineration Units (40 CFR part 60, subpart DDDD) were promulgated on December 1, 2000.

The emission guidelines require a one-time waste management plan, initial performance tests for 10 pollutants, annual performance testing for particulate matter, hydrogen chloride and opacity, continuous operating parameter monitoring, annual operator training, and annual reporting. Only the control plan and the waste management plan are submitted in the first 3 years after promulgation of the emission guidelines. The one-time control plan will allow the Designated Administrator to determine whether the respondent has an adequate strategy for achieving compliance with the emission guidelines by the final compliance date. The one-time waste management plan will allow the Designated Administrator to determine whether the respondent has an adequate plan for reducing and separating waste. The final compliance report notifies the Designated Administrator that the owner or operator has achieved compliance with the emission guidelines. Annual reporting allows the submitting of required information and data parameters so that any potential problems can be identified in a timely fashion.

Burden Statement: In the previously approved ICR, the estimated number of respondents for this information collection was 116 with 116 responses per year. The annual industry reporting and recordkeeping burden for this collection of information was 9,145 hours. Therefore, each respondent must report one time per year and the average number of hours preparing each report is 79. There were no capital/startup or operation and maintenance costs associated with the continuous emission monitoring required by the previous ICR.

(8) NESHAP for Magnetic Tape Manufacturing Operations (40 CFR part 63, subpart EE); Docket ID Number OECA-2003-0022; EPA ICR Number 1678.05; OMB Control Number 2060-0326; expiration date January 31, 2004.

Affected Entities: Entities potentially affected by this action are magnetic tape manufacturing operations.

Abstract: The NESHAP standard for Magnetic Tape Manufacturing Operations was promulgated on December 15, 1994.

Owners or operators of magnetic tape manufacturing operations must make the following one-time-only reports: Notification of the date of construction or reconstruction; notification of the anticipated and actual dates of startup; notification of any physical or operational change to an existing facility which may increase the regulated pollutant emission rate; notification of the date of the initial performance test; and the results of the initial performance test. Owners or operators also are required to maintain records of the occurrence and duration of any startup, shutdown, or malfunction in the operation of an affected facility.

Each owner or operator of an affected magnetic tape coating operation shall install, calibrate, maintain, and operate a monitoring device that continuously measures control device efficiency. Recordkeeping requirements include records of the freeboard ratio, compliance monitoring system (CMS) maintenance and calibration, performance tests, material balance calculation, and hazardous air pollutant (HAP) usage.

Burden Statement: In the previously approved ICR, the estimated number of respondents for this information collection was 13 with 26 responses per year. The annual industry reporting and recordkeeping burden for this collection of information was 7,042 hours. On the average, each respondent reported two times per year and 271 hours were spent preparing each response. Reports are submitted semiannually, quarterly and on occasion. The annual reporting and recordkeeping cost burden associated with continuous emission monitoring in the previous ICR was $89,000 of which the capital/startup costs were $10,000 and the operation and maintenance costs were $79,000.

(9) NESHAP for Flexible Polyurethane Foam Production (40 CFR part 63, subpart III); EPA ICR Number 1783.03; OMB Control Number 2060-0357; expiration date January 31, 2004.

Affected Entities: Entities potentially affected by this action are owners or operators of facilities that engage in the manufacture of flexible polyurethane foam products. This includes facilities making flexible polyurethane foam, rebind flexible polyurethane foam, and/or molded flexible polyurethane foam.

Abstract: The standards at 40 CFR part 63, subpart III, were promulgated on October 7, 1998. These standards require sources to choose one of several compliance options or reduce hazardous air pollutant (HAP) emissions to below the compliance level. Sources are required to submit initial notifications, including a pre-compliance report, conduct performance tests, and submit semiannual compliance reports and annual compliance certifications. In addition, sources are required to maintain records of the occurrence and duration of any startup, shutdown, or malfunction in the operation of an affected facility; any period during which the monitoring system is inoperative; bag leak detection system alarms, including corrective actions; and of parametric monitoring data, system maintenance and calibration. Records are to be retained two years on-site of the required total five years. These notifications, reports, and records are essential in determining compliance with the standards.

Burden Statement: In the previously approved ICR, the estimated number of respondents for this information collection was 132. However, it was estimated that approximately six existing facilities will undergo reconstruction or modification over the period of the ICR. The annual industry reporting and recordkeeping burden for the previous information collection was estimated to be 6,400 hours with a total of 143 responses per year. Therefore, each respondent reported an average of one time per year and spent about 45 hours preparing each response (includes time for recordkeeping activities).

There were no capital/startup costs and no operation and maintenance costs associated with CEM in the previous ICR. This estimate was based on the assumption that all foam production sources will elect the source-wide emission limitation, which requires no startup, capital, or operation and maintenance costs paid outside of the company.

(10) NESHAP for Mineral Wool Production (40 CFR part 63, subpart DDD); EPA ICR Number 1799.03; OMB Control Number 2060-0362; expiration date January 31, 2004.

Affected Entities: Entities potentially affected by this action are existing, new, or reconstructed mineral wool production facilities.

Abstract: The NESHAP for Mineral Wool Production (40 CFR part 63, subpart DDD) was promulgated on June 1, 1999.

The monitoring, recordkeeping, and reporting requirements outlined in the standards are similar to those required for other NESHAP standards. Plants must demonstrate compliance with the standards by monitoring their control devices and performing annual emissions testing. Respondents must provide notification to the EPA of construction, modification, startups, shutdowns, date and results of initial performance tests and provide semiannual reports of excess emissions. They are also required to install fabric filter bag leak detection systems and then initiate corrective action procedures in the event of an operating problem. Continuous monitoring and recording of: (1) The operating temperature of each thermal incinerator; (2) cupola production rate; and (3) for each curing over, the formaldehyde content of each binder formulation used to manufacture bonded products is required.

Records and reports must be retained for a total of 5 years (2 years at the site, and the remaining 3 years may be retained off-site). All sources subject to these standards are required to submit initial and semiannual reports.

Burden Statement: In the previously approved ICR, the estimated number of respondents for this information collection was 13 with 26 responses per year. The annual industry reporting and recordkeeping burden for this collection of information was 5,779 hours. The respondent must report two times per year spending approximately 222 hours preparing each response.

The annual reporting and recordkeeping cost burden in the previous ICR was approximately $100,000 of which the capital/startup costs were $96,000 and the operation and maintenance costs were $4,000.

(11) NSPS for Nitric Acid Plants (40 CFR part 60, subpart G); EPA ICR Number 1056.08; OMB Control Number 2060-0019; expiration date January 31, 2004.

Affected Entities: Entities potentially affected by this action applies to nitric acid production facility producing weak nitric acid by either the pressure or atmospheric pressure process.

Abstract: The NSPS for Nitric Acid Plants (40 CFR part 60, subpart G) was promulgated on June 14, 1974. All affected facilities in this subpart must make the following one-time-only reports: Notification of the date of construction or reconstruction; notification of the anticipated and actual dates of startup; notification of any physical or operational change to an existing facility which may increase the regulated pollutant emission rate; and the notification of the date of the initial performance test.

The recordkeeping requirements for nitric acid plants consist of the occurrence and duration of all startups, shutdowns, or malfunctions of an affected facility, or any period during which the monitoring system is inoperative. These notifications, reports, records and semiannual reports, in general, apply to all NSPS subject sources.

Burden Statement: In the previously approved ICR, the estimated number of respondents for this information collection was 35 with 71 responses per year. The annual industry reporting and recordkeeping burden for this collection of information was 1,796 hours. The annual public reporting and recordkeeping burden for this collection of information is estimated to average 25 hours per response.

The annual reporting and recordkeeping cost burden was approximately $3,568,000 of which the capital/startup costs were $68,000 and the operation and maintenance costs were $3,500,000.

(12) NESHAP for Off-Site Waste and Recovery Operations (40 CFR part 63, subpart DD); EPA ICR Number 1717.04; OMB Control Number 2060-0313; expiration date January 31, 2004.

Affected Entities: Entities potentially affected by this action applies to waste management facilities that receive off-site materials and have operations that are regulated as hazardous waste treatment, storage, and disposal facilities.

Abstract: The NESHAP for Off-Site Waste and Recovery Operations (40 CFR part 63, subpart DD) was promulgated on July 1, 1996. The monitoring, recordkeeping, and reporting requirements outlined in the standards are similar to those required for other NESHAP regulations. Plants must demonstrate compliance with the standards by monitoring their control devices and performing annual emissions testing. The affected facilities must make a one-time-only notification. Respondents are required to maintain records of the occurrence and duration of any startup, shutdown, or malfunction in the operation of an affected facility, or any period during which the monitoring system is inoperative. Semiannual reports of excess emission are required. Records and reports must be retained for a total of 5 years (2 years at the site, and the remaining 3 years may be retained off-site).

Burden Statement: In the previously approved ICR, the estimated number of respondents for this information collection was 250 with 1,000 responses per year. The annual industry reporting and recordkeeping burden for this collection of information was 162,050 hours. Therefore, each respondent reported approximately four times per year and spent 162 preparing each response. There were no capital and startup costs or operation and maintenance costs associated with continuous emission monitoring in the previous ICR.

(13) NSPS for New Residential Wood Heaters (40 CFR part 60, subpart AAA); EPA ICR Number 1176.07; OMB Control Number 2060-0161; expiration date February 29, 2004.

Affected Entities: Approximately 54 wood stove manufacturers and five USEPA certified testing laboratories are potentially affected by this action.

Abstract: The standard at 40 CFR part 60, subpart AAA, promulgated February 28, 1988, requires information to be supplied to the EPA by manufacturers and emission testing laboratories. The information supplied by manufacturers to the EPA is used: (1) To ensure that the best demonstrated technology is being used to reduce emissions from wood heaters; (2) to ensure that the wood heater tested for certification purposes is in compliance with the applicable emission standards; (3) to provide evidence that production-line wood heaters have emission performance characteristics similar to tested models; and (4) to provide assurance of continued compliance.

Manufacturers submit a notification to the EPA stating the dates of certification testing, perform the certification testing at an accredited laboratory, supply detailed component drawings including manufacturing tolerances to the EPA, reapply for certification every five years, seal/store each tested model and maintain all necessary certification test records.

Burden Statement: In the previously approved ICR, the estimated number of respondents for this information collection was 54 with 3,093 responses per year. The annual industry reporting and recordkeeping burden for this collection of information was 7,653 hours. On the average, each respondent reported 57 times per year and 3 hours were spent preparing each response. The response was provided on occasion. There were no capital/startup costs or operation and maintenance costs associated with continuous emission monitoring in the previous ICR.

(14) NESHAP for Wood Furniture Manufacturing Operations (40 CFR part 63, subpart JJ); EPA ICR Number 1716.04; OMB Control Number 2060-0324; expiration date February 29, 2004.

Affected Entities: Entities potentially affected by this action are facilities that are engaged, either in part or in whole, in the manufacture of wood furniture or wood furniture components.

Abstract: The NESHAP for Wood Furniture Manufacturing Operations (40 CFR part 63, subpart JJ) was promulgated on December 7, 1996.

Respondents must make one-time-only notifications which include: Notification of any physical or operational change to an existing facility which may increase the regulated pollutant emission rate; notification of the initial performance test, including information necessary to determine the conditions of the performance test, performance test measurements and results; and notification of demonstration of the continuous monitoring system.

Respondents are also required to submit both initial and regular semiannual compliance reports and to perform recordkeeping activities. Any respondent subject to the provisions of this part shall maintain and retain reports for at least five years.

Burden Statement: In the previously approved ICR, the estimated number of respondents for this information collection was 750 with 47,800 responses per year. The annual industry reporting and recordkeeping burden for this collection of information was 92,071 hours. Therefore, each respondent provides 65 responses per year and spends two hours preparing each response.

The annual reporting and recordkeeping cost burden in the previous ICR was approximately $41,000. The total annualized capital/startup costs were zero and the annualized operation and maintenance costs were approximately $41,000.

(15) NESHAP for Ethylene Oxide Emissions from Sterilization Facilities (40 CFR part 63, subpart O); EPA ICR Number 1666.06; OMB Control Number 2060-0283; expiration date February 29, 2004.

Affected Entities: Entities potentially affected by this action are new and existing commercial ethylene oxide (EO) sterilization and fumigation facilities, using 1 ton of EO after promulgation of the standards.

Abstract: The NESHAP for Ethylene Oxide Emissions from Sterilization Facilities (40 CFR part 63, subpart O) was promulgated on December 6, 1994, and amended June 3, 1996, December 4, 1998, December 3, 1999, and December 14, 1999. The monitoring, recordkeeping, and reporting requirements outlined in the standards are similar to those required for other NESHAP standards. Plants must demonstrate compliance with the standards by monitoring their control devices and performing annual emissions testing. Respondents of affected facilities must submit one-time reports of startup and physical or operation changes to existing facilities. Respondents of ethylene oxide sterilization and fumigation operations will submit one-time reports of actual or estimated annual ethylene oxide use. Respondents are required to provide a semiannual report of excess emissions based on daily and monthly inspections of control devices.

Burden Statement: In the previously approved ICR, the estimated number of respondents for this information collection was 100 with 98 responses per year. The annual industry reporting and recordkeeping burden for this collection of information was 7,328 hours. Therefore, each respondent reported one time per year and spent an average of 75 hours preparing each response.

The annual reporting and recordkeeping cost burden in the previous ICR was approximately $228,000 of which the capital/startup costs were $195,000 and the operation and maintenance costs were $33,000.

(16) NESHAP for Chromium Emissions From Hard and Decorative Chromium Electroplating and Chromium Anodizing Tanks (40 CFR part 63, subpart N); EPA ICR Number 1611.05; OMB Control Number 2060-0327; expiration date February 29, 2004.

Affected Entities: Entities potentially affected by this action are chromium electroplating or chromium anodizing tanks at facilities performing hard chromium electroplating, decorative chromium electroplating, or chromium anodizing.

Abstract: The NESHAP for Chromium Emissions From Hard and Decorative Chromium Electroplating and Chromium Anodizing Tanks (40 CFR part 63, subpart N) was promulgated on January 25, 1995.

The monitoring, recordkeeping, and reporting requirements outlined in the standards are similar to those required for other NESHAP regulations. These standards require initial notifications, performance tests, and periodic reports. Respondents are also required to maintain records of the occurrence and duration of any startup, shutdown, or malfunction in the operation of an affected facility, or any period during which the monitoring system is inoperative. Respondents that are not required to conduct an initial performance test (i.e., decorative chromium electroplating or chromium anodizing operations that use a wetting agent and meet the surface tension limit in the NESHAP, and decorative chromium electroplating operations that use a trivalent chromium bath) are required to notify the Administrator of the initial compliance status of the source. On an ongoing basis, all respondents that are major sources are required to submit, at a minimum, semiannual compliance status reports.

Respondents are required to maintain several records for a minimum of 5 years.

Burden Statement: In the previously approved ICR, the estimated number of respondents was 948 with 1,896 responses per year. The annual industry reporting and recordkeeping burden for this collection of information was 516,186 hours. Therefore, each respondent provided two reports per year and spent an average of 272 hours preparing each response.

The annual reporting and recordkeeping cost burden in the previous ICR was $75,300,000 for operation and maintenance of the required continuous emission monitoring equipment.

(17) NSPS for Secondary Brass and Bronze Production Plants (40 CFR part 60, subpart M); Primary Copper Smelters(40 CFR part 60, subpart P); Primary Zinc Smelters (40 CFR part 60, subpart Q); Primary Lead Smelters (40 CFR part 60, subpart R); Primary Aluminum Reduction Plants (40 CFR part 60, subpart S); and Ferroalloy Production Facilities (40 CFR part 60, subpart Z); EPA ICR Number 1604.07; OMB Control Number 2060-0110; expiration date February 29, 2004.

Affected Entities: Entities potentially affected by this action include affected facilities at: Secondary brass or bronze production plants including reverberatory and electric furnaces of 1,000 kg or greater production capacity and blast (cupola) furnaces of 250 kg/hr or greater production capacity; primary copper smelters including dryers, roasters, smelting furnaces, and copper converters; primary zinc smelters including roaster and sintering machines; primary lead smelters including sintering machine, sintering machine discharge end, blast furnace, dross reverberatory furnace, electric smelting furnace, and converter; and primary aluminum reduction plants including potroom groups and anode bake plants; and ferroalloy production plants including electric submerged arc furnaces which produce silicon metal, ferrosilicon, calcium silicon, silicomanganese zirconium, ferrochrome silicon, silvery iron, high-carbon ferrochrome, charge chrome, standard ferromanganese, silicomanganese, ferromanganese silicon, or calcium carbide, and dust-handling equipment.

Abstract: This information collection addresses 40 CFR part 60, subparts M, P, Q, R, S and Z. 40 CFR part 60, subpart M, was promulgated on March 8, 1974, and amended recently on February 14, 1989. 40 CFR part 60, subpart P, was promulgated on January 15, 1976. 40 CFR part 60, subpart Q, was promulgated on January 15, 1976. 40 CFR part 60, subpart R, was promulgated on January 15, 1976. 40 CFR part 60, subpart S, was promulgated on July 25, 1977, and amended most recently on February 14, 1989. 40 CFR part 60, subpart Z, was promulgated on July 25, 1977, and amended most recently on February 14, 1990. These NSPS standards require sources to submit initial notifications, conduct performance tests, and submit periodic reports. The types of reports may include semiannual reports of excess emissions by primary copper, lead, and zinc smelters and ferroalloy plants; reports of excess emissions in each monthly or annual performance test by aluminum reduction plants; and reports of product change by ferroalloy plants. Owners or operators are also required to maintain records of the occurrence and duration of any startup, shutdown, or malfunction in the operation of an affected facility; any period during which the monitoring system is inoperative; parametric monitoring data, system maintenance and calibration. Records are required to be retained for two years. These notifications, reports, and records are essential in determining compliance with the standards.

Burden Statement: In the previously approved ICR, the estimated number of respondents was 27 (i.e., 5 secondary brass or bronze production plants, 13 primary copper smelters, 1 primary zinc smelter, 1 primary lead smelter, 6 primary aluminum reduction plants, and 1 ferroalloy production facility). The annual industry reporting and recordkeeping burden for the previous information collection was estimated to be 5,351 hours for a total of 82 responses per year. Therefore, each respondent reported an average of three times per year and spent about 65 hours preparing each response.

There were no capital/startup costs associated with continuous emission monitors (CEMs) in the previous ICR. The operation and maintenance costs associated with CEMs for the previous ICR are $231,900.

(18) NESHAP for Gasoline Distribution Facilities (40 CFR part 63, subpart R); EPA ICR Number 1659.05; OMB Control Number 2060-0325; expiration date February 29, 2004.

Affected Entities: Entities potentially affected by this action are new and existing bulk gasoline terminals and pipeline breakout stations that are major sources of hazardous air pollutants (HAP) emissions or are located at sites that are major sources of HAP emissions.

Abstract: The standards at 40 CFR part 63, subpart R, were promulgated on December 14, 1994. The standards were revised on June 26, 1995, to correct errors in the printing of the emission screening equation in the final standards, and amended on February 29, 1996, to extend the initial compliance date for the equipment leak standard. The standards were amended again June 12, 1996, to clarify the coverage of gasoline loading racks at refineries with through-puts greater than 75,700 liters/day. Updated direct final standards were promulgated on February 28, 1997, to implement a proposed settlement with the American Petroleum Institute.

The monitoring, recordkeeping, and reporting requirements outlined in the standards are similar to those required for other NESHAP regulations. Respondents must submit one-time notifications of applicability and reports on initial performance test results. Respondents must develop and implement a startup, shutdown, and malfunction plan and submit semiannual reports describing any occurrence when the plan was not followed. Respondents must also develop and implement an operation, maintenance, and monitoring plan covering each affected facility and each emission control device. In addition to the general requirements, this NESHAP requires respondents to submit one-time reports of start of construction, anticipated and actual startup dates, and physical or operational changes to existing facilities. Reports of initial performance tests at bulk terminal loading racks are also required and are necessary to show that the installed control devices are meeting the emission limitations required by the NESHAP. Annual reports of storage vessel inspections at all affected facilities are required. Respondents must also submit semiannual startup, shutdown, and malfunction reports, semiannual excess emissions and continuous monitoring system performance reports, and semiannual reports of equipment leaks not repaired within five days or loadings of gasoline cargo tanks for which vapor tightness documentation is not on file. Quarterly excess emissions reports are required for control device monitoring parameter exceedances, equipment leaks for which timely repair is not made, and reloadings of nonvapor tightness certified cargo tanks. All affected bulk terminals must maintain records of the cargo tank vapor tightness test data on the facility premises.

Burden Statement: In the previously approved ICR, the estimated number of respondents for this information collection was 263 with 526 responses per year. On the average, each respondent reported 2 times per year and 62 hours were spent preparing each response. The respondents provided reports semiannually, quarterly and on occasion.

In the previous ICR, the total annual reporting and recordkeeping cost burden was approximately $851,000 which covered the operation and maintenance costs associated with the continuous monitoring requirements.

(19) NESHAP for Pharmaceutical Production (40 CFR part 63, subpart GGG); EPA ICR Number 1781.03; OMB Control Number 2060-0358; expiration date February 29, 2004.

Affected Entities: Entities potentially affected by this action are pharmaceuticals production facilities that are major sources of hazardous air pollutants (HAP). The affected facility covers pharmaceutical manufacturing operations which include process vents, storage tanks, equipment components, and wastewater systems.

Abstract: The NESHAP for Pharmaceutical Production (40 CFR part 63, subpart GGG) was promulgated on September 21, 1998.

The monitoring, recordkeeping, and reporting requirements outlined in the standards are similar to those required for other NESHAP regulations. These standards require initial notifications, performance tests, and periodic reports. Respondents are also required to maintain records of the occurrence and duration of any startup, shutdown, or malfunction in the operation of an affected facility, or any period during which the monitoring system is inoperative. Respondents subject to these standards will provide a one-time report of initial performance tests and semiannual reports of noncompliance.

Respondents subject to the provisions of this part shall maintain a file of these measurements, and retain the file for at least five years following the date of such measurements, maintenance reports, and records.

Burden Statement: In the previously approved ICR, the estimated number of respondents for this information collection was 103 with 209 responses per year. The annual industry reporting and recordkeeping burden for this collection of information was 161,326 hours. Therefore, each respondent reported approximately two times per year and spent an average of 409 hours preparing each response.

The annual reporting and recordkeeping cost burden in the previous ICR was $8,000 of which the capital/startup costs were $4,000 and the operation and maintenance costs were $4,000.

(20) NSPS for Magnetic Tape Coating Facilities (40 CFR part 60, subpart SSS); Docket ID Number OECA-2003-0023; EPA ICR Number 1135.08; OMB Control Number 2060-0171; expiration date February 29, 2004.

Affected Entities: Magnetic tape coating facilities.

Abstract: The NSPS for Magnetic Tape Coating Facilities was promulgated on October 3, 1988. These standards apply to each coating operation and each piece of coating mix preparation equipment for which construction, modification or reconstruction commenced after January 22, 1986. Volatile organic compounds (VOC) are the pollutants regulated under the standards.

Owners or operators of the affected facilities described must make the following one-time-only reports: Notification of the date of construction or reconstruction; notification of the anticipated and actual dates of startup; notification of any physical or operational change to an existing facility which may increase the regulated pollutant emission rate; notification of the date of the initial performance test; and the results of the initial performance test. Owners or operators also are required to maintain records of the occurrence and duration of any startup, shutdown, or malfunction in the operation of an affected facility.

Monitoring requirements specific to the magnetic tape coating facilities consist mainly of VOC measurements, including monthly records of VOC content of all coatings applied, total amount and percent VOC recovered, and the total amount of coating applied. In addition, facilities utilizing less solvent annually than the applicable cutoff shall make semiannual estimates of projected annual amount of solvent use and maintain records of actual solvent use.

Each owner or operator of affected magnetic tape coating facilities shall install, calibrate, maintain, and operate a monitoring device that continuously indicates and records the concentration level of organic compounds in the outlet gas stream. Certain facilities will also be required to continuously measure and record either the combustion temperature of the incinerator (for those facilities controlled by a thermal incinerator) or the condenser exhaust temperature.

Burden Statement: In the previously approved ICR, the estimated number of respondents for this information collection was 13 with 56 responses per year. The annual industry reporting and recordkeeping burden for this collection of information was 3,891 hours. On the average, each respondent reported 4.3 times per year and 70 hours were spent preparing each response. The annual reporting and recordkeeping cost burden associated with continuous emission monitoring in the previous ICR and annualized over its expected useful life was $93,000 of which the capital/startup costs were $27,000 and the operation and maintenance costs were $66,000.

Dated: May 9, 2003.
Michael M. Stahl,
Director, Office of Compliance.

[FR Doc. 03-12478 Filed 5-16-03; 8:45 am]

BILLING CODE 6560-50-P